DEPARTMENT OF HOMELAND SECURITY

Federal Emergency Management Agency

[Docket ID: FEMA-2007-0008]

National Advisory Council

AGENCY: Federal Emergency Management Agency, DHS.

ACTION: Committee management; request for applicants for appointment to the National Advisory Council.

SUMMARY: The Federal Emergency Management Agency (FEMA) is requesting qualified individuals who are interested in serving on the FEMA National Advisory Council (NAC) to apply for appointment as identified in this notice. Pursuant to the Post-Katrina Emergency Management Reform Act of 2006 (PKEMRA), the NAC shall advise the Administrator of FEMA on all aspects of emergency management. The NAC shall incorporate state, local, tribal, and territorial government, non-profit and private sector input in the development and revision of national emergency management doctrine, policy, and plans. The NAC consists of up to 35 members, all of whom are experts and leaders in their respective fields. FEMA seeks to appoint individuals to seven (7) discipline specific positions on the NAC and up to four (4) members as Administrator Selections. If other positions are vacated during the application process, candidates may be selected from the pool of applicants to fill the vacated positions.

DATES: Applications will be accepted until 11:59 p.m. EDT on March 16, 2016.

ADDRESSES: The preferred method of submission for application packages is via email. However, application packages may also be submitted by fax or U.S. mail. Please submit by only ONE of the following methods:

• Email: FEMA-NAC@fema.dhs.gov. Please save materials as one document using the naming convention, “LAST NAME_FIRST NAME” and attach to the email.

• Fax: (540) 504-2331.

• U.S. Mail: Office of the National Advisory Council, Federal Emergency Management Agency, 8th Floor, 500 C Street SW., Washington, DC 20472-3184.

FOR FURTHER INFORMATION CONTACT: Alexandra Woodruff, Designated Federal Officer, The Office of the National Advisory Council, Federal Emergency Management Agency, 8th Floor, 500 C Street SW., Washington, DC 20472-3184; telephone (202) 646-2700; fax (540) 504-2331; and email FEMA-NAC@fema.dhs.gov. For more information on the NAC, including application instructions and a list of frequently asked questions, please visit http://www.fema.gov/national-advisory-council.

SUPPLEMENTARY INFORMATION: The NAC is an advisory committee established in accordance with the provisions of the Federal Advisory Committee Act (FACA), 5 U.S.C. Appendix. As required by PKEMRA, the Secretary of Homeland Security established the NAC to ensure effective and ongoing coordination of Federal preparedness, protection, response, recovery, and mitigation for natural disasters, acts of terrorism, and other man-made disasters. FEMA is requesting individuals who are interested and qualified in serving on the NAC to apply for appointment. Individuals selected for appointment will serve as either a Special Government Employee (SGE) or a Representative in one of the following disciplines: Emergency Management (one Representative appointment), Emergency Medical Providers (one SGE appointment), Functional and Access Needs (one Representative appointment), Non-Elected Local Government Officials (one Representative appointment), Non-Elected State Government Officials (one Representative appointment), Public Health (one SGE appointment), Standards Setting and Accrediting (one SGE appointment). The Administrator may appoint up to four (4) additional candidates to serve as FEMA Administrator Selections (as SGE appointments). For one of the FEMA Administrator Selection positions, FEMA seeks to appoint an individual to represent emerging leaders in emergency management. This position is for an individual who has academic experience in emergency management, served in the FEMACorps program, is an alumni of FEMA's Youth Preparedness Council, or has otherwise contributed to the field of emergency management as an emerging leader. Appointments will be for three-year terms that start in September 2016.

More information about the disciplines can be found in the NAC Charter: http://www.fema.gov/media-library-data/18059cd64e864a278afab92581092481/NAC+Charter_CMO+filed+23APR2013+508c.pdf.

If you are interested and qualified, please apply for consideration of appointment by submitting an application package to the Office of the NAC as listed in the ADDRESSES section of this notice. Current NAC members whose terms are ending should notify the Office of the NAC of their interest in reappointment in lieu of submitting a new application, and if desired, provide updated application materials for consideration. There is no application form; however, each application package MUST include the following information:

• Cover letter, addressed to the Office of the NAC, that indicates why you are interested in serving on the NAC and includes the following information: the discipline area(s) being applied for, current position title and organization, home and work addresses, a current telephone number and email address;

• Resume or Curriculum Vitae (CV); and

• One Letter of Recommendation addressed to the Office of the NAC.

Incomplete applications will not be considered. Each application will be reviewed on three criteria: (1) Leadership attributes, (2) emergency management experience, and (3) strategy and policy experience.

Appointees may be designated as a SGE as defined in section 202(a) of title 18, United States Code, or as a Representative member. Candidates selected for appointment as SGEs are required to complete a Confidential Financial Disclosure Form (Office of Government Ethics (OGE) Form 450) each year. This form can be obtained by visiting the Web site of the Office of Government Ethics (http://www.oge.gov). However, please do not submit this form with your application.

The NAC meets in person approximately twice a year. Members may be reimbursed for travel and per diem. All travel for NAC business must be approved in advance by the Designated Federal Officer. NAC members are expected to serve on one of the three NAC Subcommittees, which regularly meet by teleconference.

DHS does not discriminate on the basis of race, color, religion, sex, national origin, political affiliation, sexual orientation, gender identity, marital status, disability and genetic information, age, membership in an employee organization, or other non-merit factor. DHS strives to achieve a widely diverse candidate pool for all of its recruitment actions. Current DHS and FEMA employees, FEMA Reservists, and DHS and FEMA contractors and potential contractors will not be considered for membership. Federally registered lobbyists may apply for positions designated as Representative appointments but are not eligible for positions that are designated as SGE appointments.

Dated: February 4, 2016.
W. Craig Fugate,
Administrator, Federal Emergency Management Agency.

[FR Doc. 2016-02648 Filed 2-9-16; 8:45 am]

BILLING CODE 9111-48-P